DEPARTMENT OF HEALTH AND HUMAN SERVICES

Centers for Disease Control and Prevention

[30Day-23-1282]

Agency Forms Undergoing Paperwork Reduction Act Review

In accordance with the Paperwork Reduction Act of 1995, the Centers for Disease Control and Prevention (CDC) has submitted the information collection request titled “The Performance Measures Project: Improving Performance Measurement and Monitoring by CDC Programs” to the Office of Management and Budget (OMB) for review and approval. CDC previously published a “Proposed Data Collection Submitted for Public Comment and Recommendations” notice on July 25, 2022 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

The Performance Measures Project: Improving Performance Measurement and Monitoring by CDC Programs (OMB Control No. 0920-1282, Exp. 1/31/2023)—Revision—Office of the Director for Policy and Strategy (OADPS), Centers for Disease Control and Prevention (CDC).

Background and Brief Description

Each year, approximately 75% of the CDC's congressionally appropriated funding goes to extramural organizations, including state and local partners, via contracts, grants, and, most commonly, cooperative agreements. The availability of funding for grants and cooperative agreements is announced through a Notice of Funding Opportunity (NOFO). CDC awards up to 100 new, non-research NOFOs each year (each funded for one to five years). These awards may have only a few funded recipients or more than 50, such as when a CDC program provides funding to all states and territories. Monitoring and reporting of program performance is required of any non-federal entity receiving federal funds under 45 CFR 75.342; “The non-federal entity must monitor its activities under federal awards to assure compliance with applicable federal requirements and performance expectations are being achieved”.

CDC's Program Performance and Evaluation Office (PPEO) provides technical assistance to CDC programs and funding recipients with the immediate goal of monitoring progress and the long-term goals of improving performance and maximizing public health impact. Greater public health impact can be achieved by the development of performance measures and monitoring plans that are customized to the goals outlined in each NOFO. PPEO therefore provides consultations for the development of NOFO-specific performance measures and the development of each NOFO's logic model (i.e., a graphic depiction of the relationship between the funded activities and the intended effects or outcomes of those activities in the short, medium, and/or long term).

PPEO has also developed templates that can be further customized by CDC/ATSDR programs participating in the Performance Measures Project (PMP). These templates include a sample “Performance Measure Technical Specification Instrument” and a sample “Performance Measure Reporting Instrument.” After the templates are finalized by PPEO and the CDC/ATSDR program, the templates are completed by the recipients of CDC/ATSDR funding.

CDC requests OMB approval to continue information collection for the PMP, with changes. Individual collection requests submitted under this Generic approval will continue to include the tailored forms and a supplementary template that provides a description of program purpose and the estimated burden of information collection. CDC proposes minor changes to the template that clarify: (i) the calendar year(s) in which each program will collect information; (ii) the frequency of information collection (annual, semi-annual, quarterly, or other); and (iii) total burden requested for up to three years of approval. These clarifications are needed because the majority of awards are for multi-year projects, and the frequency of reporting may vary according to program-specific factors.

In addition, a number of changes to the PMP Generic Clearance reflect expanded technical assistance that PPEO provides to CDC programs. The CDC program eligibility to participate in PMP will be expanded as follows:

(1) Given the recent increase in grants and other funding mechanisms used at CDC to enhance programmatic flexibility, PMP eligibility will expand to include all available funding mechanisms for eligible programs (i.e., activities funded through grants, cooperative agreements, or contracts).

(2) PPEO is providing increasing technical assistance to international programs. Eligibility will expand to include both domestic and international programs.

(3) Many CDC programs are operating under the HHS COVID-19 Emergency PRA waiver. This Emergency Waiver is expected to be discontinued. PMP will prioritize transitioning CDC program performance measure data collection from the Emergency Waiver to PMP.

(4) Some CDC programs are developing common performance metrics across multiple public health initiatives. PMP will prioritize cross-NOFO collaboration with these programs to increase efficiency.

(5) As CDC/ATSDR programs transition back to normal function after the COVID-19 pandemic, there has been increased interest in PMP. The revision will increase the estimated number of new programs that may participate from 25 programs to 40 programs.

(6) CDC proposes changes to the GenIC Request Template that clarify the calendar years in which each program's customized templates will be administered, and total burden hours for the entire period of information collection. The template will adopt the standard burden table format utilized throughout CDC/ATSDR which provides greater clarity with respect to the frequency of information collection (annual, semi-annual, quarterly, or other). These changes will improve recordkeeping for the 0920-1282 generic and improve CDC/PPEO's ability to monitor capacity and usage of the generic, while also providing increased flexibility for CDC/ATSDR programs to describe their data collection plans.

Finally, in addition to requesting increased PMP capacity (respondents and burden hours) to cover expanded eligibility and anticipated increases in PMP utilization, CDC is also requesting additional capacity to ensure seamless continuation of GenIC data collections that were previously approved but have not been completed.

The requested total estimated annualized burden will increase from 35,000 hours to 97,049 hours. OMB approval is requested for three years. There are no costs to respondents other than their time.

Estimated Annualized Burden Hours
Type of respondents | Form name | Number of responses | Number of responses per respondent | Average burden per response (in hours)
CDC Award Recipients (new GENICs) | Performance Measures Project Information Collection Tool | 1,750 | 1 | 40
CDC Award Recipients (continuation of previously approved GENICs) | Performance Measures Project Information Collection Tool | 2,192 | 1 | 740/60

Jeffrey M. Zirger,
Lead, Information Collection Review Office, Office of Scientific Integrity, Office of Science, Centers for Disease Control and Prevention.

[FR Doc. 2023-00807 Filed 1-17-23; 8:45 am]

BILLING CODE 4163-18-P